DEPARTMENT OF COMMERCE

Patent and Trademark Office

Submission for OMB Review; Comment Request; “Rules for Patent Maintenance Fees”

The United States Patent and Trademark Office (USPTO) will submit to the Office of Management and Budget (OMB) for clearance the following proposal for collection of information under the provisions of the Paperwork Reduction Act (44 U.S.C. chapter 35).

Agency: United States Patent and Trademark Office, Commerce.

Title: Rules for Patent Maintenance Fees.

OMB Control Number: 0651-0016.

Form Number(s):

• PTO/SB/45

• PTO/SB/47

• PTO/SB/66

Type of Request: Regular.

Number of Respondents: 525,309.

Average Hours per Response: The estimated response time for an average response to a single collection in this information collection totals 0.039 hours, with response times ranging from 0.0056 hours (20 seconds) to 8 hours, depending on the instrument(s) used.

Burden Hours: 18,123.42.

Cost Burden: $3,801.42.

Needs and Uses: This information collection is necessary so that patent owners can maintain a utility patent in force and to ensure that the USPTO can properly credit maintenance fee payments. The USPTO offers forms to assist the public with providing the information covered by this collection, including maintenance fee payments, petitions to accept delayed maintenance fee payments, and fee address changes.

The public uses the Maintenance Fee Transmittal Form (PTO/SB/45) to determine and pay the correct amount due for a maintenance fee transaction. Customers may submit maintenance fees and six-month grace period surcharges paid before patent expiration electronically over the Internet using the USPTO's Office of Finance Online Shopping Page (hereinafter, the “Electronic Maintenance Fee Form”) provided through the USPTO Web site. To pay a maintenance fee after patent expiration, customers must submit the maintenance fee payment and the appropriate delayed payment surcharge together with a Petition to Accept Unintentionally Delayed Payment (PTO/SB/66). A petition to accept delayed payment of a maintenance fee under the unintentional standard may be filed online. To designate or change a fee address, the customer must submit a Fee Address Indication Form (PTO/SB/47).

This proposed collection of information results in information collected, maintained, and used consistent with all applicable OMB and USPTO Information Quality Guidelines. This includes the basic information quality standards established in the Paperwork Reduction Act (44 U.S.C. chapter 35) (PRA), in OMB Circular A-130, and in the OMB information quality guidelines. (See Ref. A, the USPTO Information Quality Guidelines.)

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0016 copy request” in the subject line of the message.

• Mail: Marcie Lovett, Records Management Division Director, Office of the Chief Information Officer, United States Patent and Trademark Office, P.O. Box 1450, Alexandria, VA 22313-1450.

Written comments and recommendations for the proposed information collection should be sent on or before June 11, 2015 to Nicholas A. Fraser, OMB Desk Officer, via email to Nicholas_A._Fraser@omb.eop.gov, or by fax to 202-395-5167, marked to the attention of Nicholas A. Fraser.

Dated: May 4, 2015.
Marcie Lovett,
Records Management Division Director, USPTO, Office of the Chief Information Officer.

[FR Doc. 2015-11417 Filed 5-11-15; 8:45 am]

BILLING CODE 3510-16-P